DEPARTMENT OF DEFENSE

Department of the Navy

Availability of Government-Owned Invention; Available for Licensing

AGENCY: Department of the Navy, DOD.

ACTION: Notice.

SUMMARY: The Department of the Navy hereby gives notice of the general availability of exclusive or partially exclusive licenses under the following pending patent. Any license granted shall comply with 35 USC 209 and 37 CFR part 404. Applications will be evaluated utilizing the following criteria: (1) Ability to manufacture and market the technology; (2) manufacturing and marketing ability; (3) time required to bring technology to market and production rate; (4) royalties; (5) technical capabilities; and (6) small business status.

Patent No. 6,094,599 entitled “RF Diathermy and Faradic Muscle Stimulation” by James Bingham and Richard Olsen issued 25 July 2000. This technology represents an RF diathermy coil assembly, including a generally elastically deformable patient conforming garment and a conductive coil secured to the garment. The conductive coil having a woven wire construction such that the coil can deform as the garment elastically deforms. The RF diathermy coil assembly can be used for wound healing in conjunction with muscle stimulation.

DATES: Applications for an exclusive or partially exclusive license may be submitted at any time from the date of this notice.

ADDRESSES: Navy Medical Research Center (NMRC), 503 Robert Grant Ave., Silver Spring, MD 20910-7500.

FOR FURTHER INFORMATION CONTACT: Dr. Charles J. Schlagel, Office of Technology Transfer, NMRC, phone (301) 319-7427, fax (301) 319-7432, e-mail schlagelc@nmrc.navy.mil.

Dated: January 19, 2001.
J.L. Roth,
Lieutenant Commander, Judge Advocate General's Corps, U.S. Navy, Federal Register Liaison Officer.

[FR Doc. 01-3227 Filed 2-7-01; 8:45 am]

BILLING CODE 3810-FF-U